DEPARTMENT OF LABOR

Office of the Secretary

Submission for OMB Review; Comment Request

September 5, 2002.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for ESA, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Representative Payee Report, Representative Payee Report (Short Form), Physician's/Medical Officer's Report.

OMB Number: 1215-0173.

Affected Public: Business or other for-profit; Individuals or households; and Not-for-profit institutions.

Estimated Time Per Response and Burden Hours:

Form name | Respondents/responses | Frequency | Average response time (in minutes) | Total hours
CM-623 | 2,275 | Annually | 90 | 3,413
CM-623S | 600 | Annually | 10 | 100
CM-787 | 223 | On occasion | 15 | 56
Total | 3,098 |  |  | 3,569

Total Annualized Capital/Startup Costs: $0.

Total Annual Costs (operating/maintaining systems or purchasing services): $0.

Description: The Office of Workers' Compensation Programs (OWCP) administers the Federal Black Lung Workers' Compensation Program. Under the Federal Mine Safety and Health Act (30 U.S.C. 901) benefits payable to a black lung beneficiary may be paid to a representative payee on behalf of the beneficiary when the beneficiary is unable to manage his/her benefits due to incapability, incompetence, or minority. The CM-623 is used to collect expenditure data regarding the disbursement of the beneficiary's benefits by the representative payee to assure that the beneficiary's needs are being met. The CM-623S is a shortened version of the CM-623 that is used when the representative payee is a family member. The CM-787 is a form used by OWCP to gather information from the beneficiary's physician about the capability of the beneficiary to manage monthly benefits to determine if it is in the beneficiary's best interests to have his/her benefits managed by another party. Regulatory authority for the collection of this information is at 20 CFR 725.506, 510, 511, and 513.

Marlene J. Howze,
Acting Departmental Clearance Officer.

[FR Doc. 02-23206 Filed 9-11-02; 8:45 am]

BILLING CODE 4510-CK-M